NUCLEAR REGULATORY COMMISSION

Withdrawal of Regulatory Guide

AGENCY: Nuclear Regulatory Commission.

ACTION: Notice of Withdrawal of Regulatory Guide 1.176.

FOR FURTHER INFORMATION CONTACT: Christina Antonescu, Reactor System Engineer, Division of Engineering, Regulatory Guide Development Branch, Office of Nuclear Reactor Research, U.S. Nuclear Regulatory Commission, Washington, DC 20555-0001, telephone: 301-415-6792 or e-mail: CEA1@NRC.GOV.

SUPPLEMENTARY INFORMATION:

I. Introduction

The Nuclear Regulatory Commission (NRC) is withdrawing Regulatory Guide (RG) 1.176, “An Approach for Plant-Specific, Risk-Informed Decisionmaking: Graded Quality Assurance,” which was published in August 1998, but has been superseded by subsequent rulemaking.

In November 2004, the NRC promulgated Title 10 of the Code of Federal Regulations (10 CFR) section 50.69, “Risk-informed categorization and treatment of structures, systems, and components for nuclear power reactors,” (69 FR 68008) to permit power reactor licensees and license applicants to implement an alternative regulatory framework with respect to “special treatment,” where special treatment refers to those requirements that provides increased quality assurance beyond normal industrial practices that structures, systems, and components (SSCs) perform their design-basis functions. In support of 10 CFR 50.69, the staff issued RG 1.201, “Guidelines for Categorizing Structures, Systems and Components in Nuclear Power Plants According to Their Safety Significance,” in January 2006 for trial use. This new framework, consisting of the rule along with RG 1.201, has made the guidance in RG 1.176 obsolete.

II. Further Information

The withdrawal of RG 1.176 does not, in and of itself, alter any prior or existing licensing commitments based on its use. The current version of RG 1.176 represents a method that is no longer acceptable to the staff. RGs may be withdrawn when their guidance is superseded by congressional action, the methods or techniques described in the RG no longer describe an acceptable approach, or the RG does not provide useful information.

RGs are available for inspection or downloading through the NRC's public Web site under “Regulatory Guides” collection in the NRC's Electronic Reading Room at http://www.nrc.gov/reading-rm/doc-collections. RGs are also available for inspection at the NRC's Public Document Room (PDR), Room O-1F21, One White Flint North, 11555 Rockville Pike, Rockville, Maryland 20852-2738. The PDR's mailing address is U.S. NRC PDR, Washington, DC 20555-0001. The PDR staff can be reached by telephone at 301-415-4737 or 800-397-4209, by fax at 301-415-3548, and by e-mail to pdr@nrc.gov.

RGs are not copyrighted and NRC approval is not required to reproduce them.

Dated at Rockville, Maryland, this 4th day of February, 2008.
For the Nuclear Regulatory Commission.
Andrea D. Valentin,
Chief, Regulatory Guide Development Branch, Division of Engineering, Office of Nuclear Regulatory Research.

[FR Doc. E8-2423 Filed 2-8-08; 8:45 am]

BILLING CODE 7590-01-P